FEDERAL COMMUNICATIONS COMMISSION

47 CFR Part 87

[WT Docket No. 09-42; WT Docket 10-61; FCC 10-37]

Aviation Service Rules

AGENCY: Federal Communications Commission.

ACTION: Proposed rule.

SUMMARY: This document considers a petition for rulemaking requesting that the Commission amend the Commission's rules for aeronautical mobility mobile stations. It also seeks comment on a proposal to permit remote monitoring of certain automated ground stations during installation and maintenance, without a licensed technician present. Finally, it proposes to codify the terms of a waiver permitting the licensing and equipment certification of devices to test aircraft data link systems.

DATES: Submit comments on or before June 28, 2010 and reply comments are due July 27, 2010.

ADDRESSES: You may submit comments, identified by WT Docket 09-42; WT Docket No. 10-61; FCC 10-37, by any of the following methods:

• Federal eRulemaking Portal: http://www.regulations.gov. Follow the instructions for submitting comments.

• Federal Communications Commission's Web Site: http://www.fcc.gov/cgb/ecfs/. Follow the instructions for submitting comments.

• People with Disabilities: Contact the FCC to request reasonable accommodations (accessible format documents, sign language interpreters, CART, etc.) by e-mail: FCC504@fcc.gov or phone 202-418-0530 or TTY: 202-418-0432.

For detailed instructions for submitting comments and additional information on the rulemaking process, see the SUPPLEMENTARY INFORMATION section of this document.

FOR FURTHER INFORMATION CONTACT: Tim Maguire, Mobility Division, Wireless Telecommunications Bureau, at (202) 418-2155.

SUPPLEMENTARY INFORMATION: This is a summary of the Federal Communications Commission's Notice of Proposed Rulemaking and Order (NPRM), WT Docket No. 10-61, WT Docket No. 09-42, and RM-11503; FCC 10-37, adopted March 11, 2010, and released March 16, 2010. The full text of this document is available for inspection and copying during normal business hours in the FCC Reference Center, 445 12th Street SW., Room CY-A257, Washington, DC 20554, or by downloading the text from the Commission's Web site at http://www.fcc.gov/. The complete text also may be purchased from the Commission's duplicating contractor, Best Copy and Printing, Inc., Portals II, 445 12th Street, Suite CY-B402, Washington, DC 20554. Alternative formats are available for people with disabilities (Braille, large print, electronic files, audio format), by sending an e-mail to FCC504@fcc.gov or calling the Consumer and Government Affairs Bureau at (202) 418-0530 (voice), (202) 418-0432 (TTY).

1. In this document, the Wireless Telecommunications Bureau of the Federal Communications Commission we address pending issues regarding certain Aviation Service ground station equipment. Primarily, we consider a petition for rulemaking filed by the National Telecommunications and Information Administration (NTIA), and supported by the Federal Aviation Administration (FAA), requesting that the Commission amend part 87 of the Commission's Rules to allow use of the frequency 1090 MHz by aeronautical mobility mobile stations for airport surface detection equipment (ASDE-X), commonly referred to as vehicle “squitters.” It also seeks comment on a proposal by Potomac Aviation Technology Corporation (PATC) to permit remote monitoring of certain automated ground stations during installation and maintenance, without a licensed technician present. It also proposes to codify the terms of a waiver granted to Aviation Data Systems (Aust) Pty Ltd. (ADS) to permit licensing and equipment certification of devices to test aircraft data link systems.

I. Procedural Matters

A. Ex Parte Rules-Permit-but-Disclose Proceeding

2. This is a permit-but-disclose notice and comment rulemaking proceeding. Ex parte presentations are permitted, except during the Sunshine Agenda period, provided they are disclosed as provided in the Commission's rules.

B. Comment Dates

3. Pursuant to §§ 1.415 and 1.419 of the Commission's rules, 47 CFR 1.415, 1.419, interested parties may file comments on or before June 28, 2010 and reply comments on or before July 27, 2010.

4. Commenters may file comments electronically using the Commission's Electronic Comment Filing System (ECFS), the Federal Government's eRulemaking Portal, or by filing paper copies. Commenters filing through the ECFS can send their comments as an electronic file via the Internet to http://www.fcc.gov/e-file/ecfs.html. In completing the transmittal screen, commenters should include their full name, U.S. Postal Service mailing address, and the applicable docket or rulemaking number. Commenters may also submit an electronic comment by Internet e-mail. To get filing instructions for e-mail comments, commenters should send an e-mail to ecfs@fcc.gov, and should include the following words in the body of the message, “get form.” Commenters will receive a sample form and directions in reply. Commenters filing through the Federal eRulemaking Portal http://www.regulations.gov, should follow the instructions provided on the Web site for submitting comments.

5. Commenters who chose to file paper comments must file an original and four copies of each comment. If more than one docket or rulemaking number appears in the caption of this proceeding, filers must submit two additional copies for each additional docket or rulemaking number. All filings must be sent to the Commission's Secretary, Office of the Secretary, Federal Communications Commission.

6. Commenters may send filings by hand or messenger delivery, by commercial overnight courier, or by first-class or overnight U.S. Postal Service mail. All hand-delivered or messenger-delivered paper filings for the Commission's Secretary must be delivered to FCC Headquarters at 445 12th St., SW., Room TW-A325, Washington, DC 20554. All hand deliveries must be held together with rubber bands or fasteners. Any envelopes must be disposed of before entering the building. Commenters must send commercial overnight mail (other than U.S. Postal Service Express Mail and Priority Mail) to 9300 East Hampton Drive, Capitol Heights, MD 20743. Commenters should address U.S. Postal Service first-class mail, Express Mail, and Priority Mail to 445 12th Street, SW., Washington, DC 20554.

7. Interested parties may view documents filed in this proceeding on the Commission's Electronic Comment Filing System (ECFS) using the following steps: (1) Access ECFS at http://www.fcc.gov/cgb/ecfs. (2) In the introductory screen, click on “Search for Filed Comments.” (3) In the “Proceeding” box, enter the numerals in the docket number. (4) Click on the box marked “Retrieve Document List”. A link to each document is provided in the document list. Filings and comments are also available for public inspection and copying during regular business hours at the FCC Reference Information Center, 445 12th Street, SW., Room CY-A257, Washington, DC, 20554. Filings and comments also may be purchased from the Commission's duplicating contractor, Best Copy and Printing, Inc., Portals II, 445 12th Street, SW., Room CY-B402, Washington, DC 20554, telephone 1-800-378-3160, or via e-mail http://www.bcpiweb.com.

C. Paperwork Reduction Act

8. This NPRM does not contain any proposed information collection(s) subject to the Paperwork Reduction Act of 1995, Public Law 104-13. In addition, it does not contain any new or modified “information collection burden for small business concerns with fewer than 25 employees,” pursuant to the Small Business Paperwork Relief Act of 2002, Public Law 107-198, see 44 U.S.C. 3506(c)(4).

II. Initial Regulatory Flexibility Analysis

9. As required by the Regulatory Flexibility Act (RFA), the Commission has prepared this Initial Regulatory Flexibility Analysis (IRFA) of the possible significant economic impact on small entities of the policies and rules proposed in the NPRM. Written public comments are requested on this IRFA. Comments must be identified as responses to the IRFA and must be filed by the deadlines for comments on the NPRM as provided in paragraph 24 of the item, supra. The Commission will send a copy of the NPRM, including this IRFA, to the Chief Counsel for Advocacy of the Small Business Administration. In addition, the NPRM and IRFA (or summaries thereof) will be published in the Federal Register.

A. Need for, and Objectives of, the Proposed Rules

10. The proposed rules in the NPRM are intended to address new requirements for aviation radio equipment in a manner that will further aviation safety; and to amend the aviation rules related to the installation and maintenance of aviation equipment and the testing of aviation data link systems. In the NPRM, we request comment specifically on whether we should: (a) Permit the operation and licensing of vehicle squitters on frequency 1090 MHz to promote aviation safety, and (b) remove the requirement that a holder of a General Radiotelephone Operator Licensees (GROL) be physically present during installation and maintenance of certain land-based Aviation Radio Service stations, and (c) permit a new emission type for radionavigation land test equipment (RLT).

B. Legal Basis

11. Authority for issuance of this item is contained in §§ 4(i), 303(r), and 403 of the Communications Act of 1934, as amended, 47 U.S.C. 154(i), 303(r) and 403.

C. Description and Estimate of the Number of Small Entities to Which the Proposed Rules Will Apply

12. The RFA directs agencies to provide a description of and, where feasible, an estimate of the number of small entities that may be affected by the proposed rules, if adopted. The RFA generally defines the term “small entity” as having the same meaning as the terms “small business,” “small organization,” and “small governmental jurisdiction.” In addition, the term “small business” has the same meaning as the term “small business concern” under the Small Business Act. A small business concern is one that: (1) Is independently owned and operated; (2) is not dominant in its field of operation; and (3) satisfies any additional criteria established by the SBA. Pursuant to 5 U.S.C. 601(3), the statutory definition of a small business applies “unless an agency after consultation with the Office of Advocacy of the SBA, and after opportunity for public comment, establishes one or more definitions of such term which are appropriate to the activities of the agency and publishes such definition(s) in the Federal Register.”

13. Small businesses in the aviation radio services use very high frequency (VHF), medium frequency (MF), or high frequency (HF) radio, radar, aircraft radio, and/or any type of emergency locator transmitter (ELT). The Commission has not developed a definition of small entities specifically applicable to these small businesses. For purposes of this IRFA, therefore, the applicable definition of small entity is the definition under the SBA rules applicable to wireless service providers. The SBA has developed a small business size standard for wireless firms within the two broad economic census categories of “Paging” and “Cellular and Other Wireless Telecommunications.” Under both categories, the SBA deems a wireless business to be small if it has 1,500 or fewer employees. For the census category of Paging, Census Bureau data for 2002 show that there were 807 firms in this category that operated for the entire year. Of this total, 804 firms had employment of 999 or fewer employees, and three firms had employment of 1,000 employees or more. Thus, under this category and associated small business size standard, the majority of firms can be considered small. For the census category of Cellular and Other Wireless Telecommunications, Census Bureau data for 2002 show that there were 1,397 firms in this category that operated for the entire year. Of this total, 1,378 firms had employment of 999 or fewer employees, and 19 firms had employment of 1,000 employees or more. Thus, under this second category and size standard, the majority of firms can, again, be considered small.

14. Some of the rules proposed herein may also affect small businesses that manufacture aviation radio equipment. The Commission has not developed a definition of small entities applicable to aviation radio equipment manufacturers. Therefore, the applicable definition is that for Radio and Television Broadcasting and Wireless Communications Equipment Manufacturers. The Census Bureau defines this category as follows: “This industry comprises establishments primarily engaged in manufacturing radio and television broadcast and wireless communications equipment. Examples of products made by these establishments are: Transmitting and receiving antennas, cable television equipment, GPS equipment, pagers, cellular phones, mobile communications equipment, and radio and television studio and broadcasting equipment.” The SBA has developed a small business size standard for Radio and Television Broadcasting and Wireless Communications Equipment Manufacturing, which is: All such firms having 750 or fewer employees. According to Census Bureau data for 2002, there were a total of 1,041 establishments in this category that operated for the entire year. Of this total, 1,010 had employment of under 500, and an additional 13 had employment of 500 to 999. Thus, under this size standard, the majority of firms can be considered small.

D. Description of Projected Reporting, Recordkeeping, and Other Compliance Requirements for Small Entities

15. The rule changes under consideration in the NPRM would require manufacturers to meet certain criteria and potential licensees would be required to operate the equipment as prescribed in the Rules, including prior coordination with the FAA. We believe the other proposed rules would have no significant effect on the compliance burdens of regulatees. We invite comment on our tentative conclusion that the possible rule changes will not have a negative impact on small entities, or for that matter any entities, and do not impose new compliance costs on any entity. To the extent that commenters believe that any of the above possible rule changes would impose a new reporting, recordkeeping, or compliance burden on small entities, we ask that they describe the nature of that burden in some detail and, if possible, quantify the costs to small entities.

E. Steps Taken To Minimize Significant Economic Impact on Small Entities and Significant Alternatives Considered

16. The RFA requires an agency to describe any significant alternatives that it has considered in reaching its proposed approach, which may include the following four alternatives: (1) The establishment of differing compliance or reporting requirements or timetables that take into account the resources available to small entities; (2) the clarification, consolidation, or simplification of compliance or reporting requirements under the rule for small entities; (3) the use of performance, rather than design, standards; and (4) an exemption from coverage of the rule, or any part thereof, for small entities.

17. This NPRM proposes to permit new equipment to be utilized by ground vehicles at airports; to remove the requirement that the holder of a General Radiotelephone Operator Licensees (GROL) be physically present during an installation or maintenance of certain land-based Aviation Radio Service station; and to permit a new emission type for radionavigation land test equipment (RLT). To the extent commenters believe that other of the discussed rule changes would impose a compliance burden on small entities, we ask that they address whether any of the above approaches to reduce that burden is appropriate.

18. We hereby invite interested parties to address any or all of these regulatory alternatives and to suggest additional alternatives to minimize any significant economic impact on small entities. Any significant alternative presented in the comments will be considered.

F. Federal Rules That May Duplicate, Overlap, or Conflict With the Proposed Rules

19. None.

III. Ordering Clauses

20. Pursuant to sections 4(i), 4(j), and 303(r) of the Communications Act of 1934, as amended, 47 U.S.C. 154(i), 154(j), 303(r), notice is hereby given of the proposed regulatory changes described in the NPRM, and comment is sought on the proposed regulatory changes as set forth below.

21. The Commission's Consumer & Governmental Affairs Bureau, Reference Information Center, SHALL SEND a copy of this NPRM, including the Initial Regulatory Flexibility Analysis, to the Chief Counsel for Advocacy of the Small Business Administration.

List of Subjects in 47 CFR Part 87

Air transportation, Communications equipment, Radio, Incorporation by reference.

Federal Communications Commission.
Marlene H. Dortch,
Secretary.

Proposed Rule Changes

For the reasons discussed in the preamble, the Federal Communications Commission proposes to amend 47 part 87 as follows:

PART 87—AVIATION SERVICES

1. The authority citation for part 87 continues to read as follows:

Authority: 47 U.S.C. 154, 303 and 307(e), unless otherwise noted.

2. Section 87.5 is amended by adding the definition of an “Aircraft data link system” and revising the definition of “Radionavigation land test stations” to read as follows:

§ 87.5 Definitions.

* * * * *

Aircraft data link system. A system used to provide data communications between the aircraft and ground personnel necessary for the safe, efficient and economical use of the aircraft.

* * * * *

Radionavigation land test stations. A radionavigation land station which is used to transmit information essential to the testing and calibration of aircraft navigational aids, receiving equipment, data link systems, and interrogators at predetermined surface locations. The Maintenance Test Facility (MTF) is used primarily to permit maintenance testing by aircraft radio service personnel. The Operational Test Facility (OTF) is used primarily to permit the pilot to check a radionavigation system aboard the aircraft prior to takeoff.

* * * * *

3. Section 87.131 is amended by revising the entries to the table for “Aeronautical utility mobile” and “Radionavigation land test” to read as follows:

§ 87.131 Power and emissions.

* * * * *

Class of station | Frequency band/frequency | Authorized emission(s) ⁹ | Maximum power ¹
| * * * * * * *
Aeronautical utility mobile | VHF | A3E | 10 watts.
| 1090 MHz | M1D | 20 watts.
Radionavigation land test | 108.150 MHz | A9W | 1 milliwatt.
| 334.550 MHz | A1N | 1 milliwatt.
| Other VHF | M1A, XXA, A1A A1N, A2A, A2D, A9W | 1 watt. 100 microwatts.
| Other UHF | G1D
|  | M1A, XXA, A1A, A1N, A2A, A2D, A9W | 1 watt.
| * * * * * * *
¹ The power is measured at the transmitter output terminals and the type of power is determined according to the emission designator as follows:
(i) Mean power (pY) for amplitude modulated emissions and transmitting both sidebands using unmodulated full carrier.
(ii) Peak envelope power (pX) for all emission designators other than those referred to in paragraph (i) of this note.
⁹ Excludes automatic link establishment.

* * * * *

* * * * *

4. Section 87.133 is amended by adding an entry alphabetically in the table to paragraph (a)(7) to read as follows:

§ 87.133 Frequency stability.

(a) * * *

Frequency band (lower limit exclusive, upper limit inclusive), and categories of stations | Tolerance ¹ | Tolerance ²
* * * * * * *
(7) * * * |
Aeronautical utility mobile stations on 1090 MHz | 1,000 | 1,000
* * * * * * *
¹ This tolerance is the maximum permitted until January 1, 1990, for transmitters installed before January 2, 1985, and used at the same installation. Tolerance is indicated in parts in 10⁶ unless shown as Hertz (Hz).
² This tolerance is the maximum permitted after January 1, 1985 for new and replacement transmitters and to all transmitters after January 1, 1990. Tolerance is indicated in parts in 10⁶ unless shown as Hertz (Hz).

* * * * *

5. Section 87.137 is amended by adding an entry alphabetically in the table following paragraph (a) to read as follows:

§ 87.137 Types of emission.

(a) * * *

Class of emission | Emission designator | Authorized bandwidth (kilohertz): Below 50 MHz | Authorized bandwidth (kilohertz): Above 50 MHz | Authorized bandwidth (kilohertz): Frequency deviation
* * * * * * *
M1D | 14M00M1D | 14.0
* * * * * * *

* * * * *

6. Section 87.173 is amended in the table following paragraph (b) as follows:

a. Revise the entries for 128.825-132.000 MHz through 136.925 MHz.

b. Revise the entry for 1030.000 MHz.

c. Add an entry in numerical order for 1090.000 MHz.

The revisions and additions read as follows:

§ 87.173 Frequencies.

* * * * *

(b) * * *

Frequency or frequency band | Subpart | Class of station | Remarks
* * * * * * *
128.825-132.000 MHz | I, Q | MA, FAE, RLT | Domestic VHF; 25 kHz channel spacing.
132.025-135.975 MHz | O | MA, FAC, FAW, GCO, RCO, RPC | 25 kHz channel spacing.
136.000-136.400 MHz | O, S | MA, FAC, FAW, GCO, RCO, RPC | Air traffic control operations; 25 kHz channel spacing.
136.425 MHz | O, S | MA, FAC, FAW, GCO, RCO, RPC | Air traffic control operations.
136.450 MHz | O, S | MA, FAC, FAW, GCO, RCO, RPC | Air traffic control operations.
136.475 MHz | O, S | MA, FAC, FAW, GCO, RCO, RPC | Air traffic control operations.
136.500-136.875 MHz | I, Q | MA, FAE, RLT | Domestic VHF; 25 kHz channel spacing.
136.900 MHz | I, Q | MA, FAE, RLT | International and Domestic VHF.
136.925 MHz | I, Q | MA, FAE, RLT | International and Domestic VHF.
* * * * * * *
1030.000 MHz | Q | RLT |
1090.000 MHz | L | MOU | Vehicle Squitter.
* * * * * * *

7. Section 87.349 is amended by adding paragraph (f) to read as follows:

§ 87.349 Frequencies.

* * * * *

(f) The Commission will assign frequency 1090 MHz for use by aeronautical utility mobile stations for runway vehicle identification and collision avoidance after coordination with the FAA, subject to the following conditions:

(1) Eligibility is restricted to airport authorities, or entities approved by the FAA;

(2) No more than two hundred 1090 MHz aeronautical utility mobile stations will be authorized at one airport;

(3) Licenses are limited to only those locations that are within the vicinity of an FAA ASDE-X multilateration system or ADS-B equipment, and/or where the primary purpose for seeking transmit authorization is to provide surface data to aircraft and air traffic control authorities.

(4) Message transmission rates are limited as indicated in the table below:

ADS-B message | Rate when moving | Rate when stationary
(i) Surface Position Message (Types 5, 6, 7, 8) | Every 0.4 to 0.6 seconds | Every 4.8 to 5.2 seconds.
(ii) Aircraft Operational Status (Type 31) | Every 4.8 to 5.2 seconds | Every 4.8 to 5.2 seconds.
(iii) Aircraft Identification and Type (Type 2) | Every 4.8 to 5.2 seconds | Every 9.8 to 10.2 seconds.

8. Section 87.475 is amended by:

a. Redesignating paragraph (b)(9) as paragraph (b)(15).

b. Redesignating paragraph (c)(2) as paragraph (c)(3).

c. Adding new paragraphs (b)(9) through (b)(14).

d. Adding paragraph (c)(2).

e. Revising paragraph (c)(1), and newly designated paragraph (c)(3).

The additions and revisions read as follows:

§ 87.475 Frequencies.

* * * * *

(b) * * *

(9) 2700-2900 MHz: Non-Government land-based radars may be licensed. U.S. Government coordination is required. Applicants must demonstrate a need for the service which the Government is not prepared to render.

(10) 5000-5250 MHz: This band is to be used for the operation of the international standard system (microwave landing system).

(11) 9000-9200 MHz: This band is available to land-based radars. Stations operating in this band may receive interference from stations operating in the radiolocation service.

(12) 14,000-14,400 MHz: This band is available for use in the aeronautical radionavigation service.

(13) 15,400-15,700 MHz: This band is available for use of land stations associated with airborne electronic aids to air navigation.

(14) 24,250-25,250, 31,800-33,400 MHz: In these bands, land-based radionavigation aids are permitted where they operate with airborne radionavigation devices.

* * * * *

(c) Frequencies available for radionavigation land test stations. (1) The frequencies set forth in §§ 87.187(c), (e) through (j), (r), (t), and (ff), 87.263(a) and 87.475(b)(6) through (b)(10), (b)(12) and (b)(15) may be assigned to radionavigation land test stations for the testing of aircraft transmitting equipment that normally operate on these frequencies and for the testing of land-based receiving equipment that operate with airborne radionavigation equipment.

(2) The band 129.125-136.975 MHz may also be used to test aircraft data link systems on a secondary basis to other licensed stations. The applicant must notify the appropriate Regional Office of the FAA prior to submitting to the Commission an application for a new station or for modification of an existing station. Each application must include the FAA Regional Office notified and the date of notification. Equipment must be designed so that it will engage in data link exchange only with the aircraft whose identification has been programmed into the device, and must comply with the applicable specifications for VDL Mode 2 operation set forth in the ICAO Manual on VHF Digital Link (VDL) Mode 2 and RTCA DO-281A, Minimum Operational Performance Standards for Aircraft VDL Mode 2 Physical, Link and Network Layer, November 8, 2005. These documents are incorporated by reference in accordance with 5 U.S.C. 552(a), and 1 CFR part 51. The RTCA document is available and may be obtained from the Radio Technical Commission of Aeronautics, One McPherson Square, 1425 K Street N.W., Washington, DC 20005, telephone (202) 833-9339. The ICAO document is available and may be obtained from the ICAO, Customer Services Unit, 999 University Street, Montréal, Quebec H3C 5H7, Canada, telephone (514) 954-8221. The documents are available for inspection at Commission headquarters at 445 12th Street, SW., Washington, DC 20554, telephone (202) 418-0300. Copies may also be inspected at the Office of the Federal Register, 800 North Capital Street, NW., Suite 700, Washington, DC. Copies of these standards can be inspected at the Federal Communications Commission, 445 12th Street, SW., Washington, DC (Reference Information Center) or at the National Archives and Records Administration (NARA). For information on the availability of this material at NARA, call 202-741-6030, or go to: http://www.archives.gov/federal_register/code_of_federal_regulations/ibr_locations.html.

(3) The frequencies available for assignment to radionavigation land test stations for the testing of airborne receiving equipment are 108.000 and 108.050 MHz for VHF omni-range; 108.100 and 108.150 MHz for localizer; 334.550 and 334.700 MHz for glide slope; 978 and 979 MHz (X channel)/1104 MHz (Y channel) for DME; 978 MHz for Universal Access Transceiver; 1030 MHz for air traffic control radar beacon transponders; 1090 MHz for Traffic Alert and Collision Avoidance Systems (TCAS); and 5031.0 MHz for microwave landing systems. Additionally, the frequencies in paragraph (b) of this section may be assigned to radionavigation land test stations after coordination with the FAA. The following conditions apply:

* * * * *

[FR Doc. 2010-9096 Filed 4-27-10; 8:45 am]

BILLING CODE 6712-01-P